DEPARTMENT OF AGRICULTURE

Submission for OMB Review; Comment Request

May 16, 2003.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Business-Cooperative Service

Title: Rural Economic Development Loan and Grant Program.

OMB Control Number: 0570-0012.

Summary of Collection: Section 313 of the Rural Electrification Act of 1936 (7 U.S.C. 940(c)) established a loan and grant program. The program provides zero interest loans and grants to Rural Utilities Service (RUS) borrowers for the purpose of promoting rural economic development and job creation projects. The loans and grants under this program may be provided to approximately 1,700 electric and telephone utilities across the country that borrowed funds from RUS. Under this program, the RUS borrowers may receive the loan funds and pass them on to businesses or other organizations.

Need and Use of the Information: The information collected is used to evaluate applications for funding consideration, conduct an environmental review, prepare legal documents, receive loan payments, oversee the operation of a revolving loan fund, monitor the use of funds, enforce other government requirements such as compliance with civil rights regulations. If the information were not collected, the agency would be unable to select the projects that will receive loan or grant funds.

Description of Respondents: Business or other for-profit.

Number of Respondents: 120.

Frequency of Responses: Recordkeeping; reporting: on occasion; annually.

Total Burden Hours: 4,273.

Rural Utilities Service

Title: 7 CFR Part 1778, Emergency and Imminent Community Water Assistance Grants.

OMB Control Number: 0572-0110.

Summary of Collection: The Rural Utilities Service (RUS) is authorized under section 306A of the Consolidated Farm and Rural Development Act, (7 U.S.C. 1926(a)) to provide grants to rural areas and small communities to secure adequate quantities of safe water. Grants made under this program shall be made for 100 percent of the project cost and may be made to public bodies and private nonprofit corporations serving rural areas. Grants can serve rural areas with population not in excess of 5000, and household income should not exceed 100 percent of a State's non-metropolitan median household income.

Need and Use of the Information: RUS will collect the information from applicants applying for grants under 7 CFR part 1778. Applicants must demonstrate that there is an imminent emergency or that a decline occurred within 2 years of the date the application was filed with Rural Development. The information is unique to each borrower and emergency situation.

Description of Respondents: Not-for-profit institutions; State, local or tribal government.

Number of Respondents: 100.

Frequency of Responses: Reporting: on occasion.

Total Burden Hours: 400.

Rural Utility Service

Title: 7 CFR Part 1755, Telecommunications Field Trials.

OMB Control Number: 0572-NEW.

Summary of Collection: Title 7 CFR 1755.3 prescribes the conditions and provision of a field trial. Field trials are contractual obligations that a manufacturer and Rural Utility Service (RUS) telecommunications borrower enter into. They consist of limited field installation of a qualifying product in closely monitored situations designed to determine to RUS' satisfaction the products effectiveness under actual field conditions. RUS will use field trials as a means for determining the operational effectiveness of a new or revised product where such experience does not already exist. Field trial process allows manufacturers a means of immediate access to the RUS borrower market; provides borrowers an opportunity to immediately utilize advance products and a means to safely obtain the necessary information on technically advanced products which will address the products suitability for use in the harsh environment of rural America.

Need and Use of the Information: RUS will use various forms to enter into contractual obligations, to establish agreements by the manufacturer and a borrower, or identify the product(s) that are under field trial. Telecommunication borrowers participate in field trials do so on a voluntary basis. The information is closely reviewed to determine that the products comply with the established RUS standards and specifications and that the products are otherwise acceptable for use on rural telecommunications systems. Without this information, RUS has no means of determining the acceptability of advanced technology in a manner that is timely enough for RUS borrowers to take advantage of the improved benefits and promise that such products may provide for rural America.

Description of Respondents: Business or other for-profit; not-for-profit institutions.

Number of Respondents: 4.

Frequency of Responses: Reporting: on occasion.

Total Burden Hours: 72.

Animal Plant and Health Inspection Service

Title: Johne's Disease in Domestic Animals; Interstate Movement, 9 CFR Part 80.

OMB Control Number: 0579-0148.

Summary of Collection: Title 21 U.S.C. authorizes sections 111, 114, 114a, 114-1, 115, 120, 121, 125, 126 134a, 134c, 134f, and 134g. These authorities permit the Secretary to prevent, control and eliminate domestic diseases such as Johne's disease, as well as to take actions to prevent and to manage exotic diseases such as foot-and-mouth, classical swine fever, and other foreign diseases. Johne's disease affects cattle, sheep, goats, other ruminants and is incurable and contagious eventually resulting in death. The disease is nearly always introduced into a healthy herd by an infected animal that is not showing symptoms of the disease. Moving livestock affected with Johne's disease requires the use of an owner-shipper statement, official eartags, and State participation in the program. Disease prevention is the most effective method for maintaining a healthy animal population and for enhancing the Animal Plant and Health Inspection Service (APHIS) ability to compete in the world market of animal and animal product trade.

Need and Use of the Information: APHIS will collect information that includes: (1) The number of animals to be moved, (2) the species of the animals, (3) the point of origin and destination, and (4) the consignor and consignee. Without the information APHIS would be unable to ensure that Johne's disease is not spread to healthy animal populations throughout the United States.

Description of Respondents: Business or other for profit.

Number of Respondents: 250.

Frequency of Responses: Reporting on occasion.

Total Burden Hours: 50.

Rural Housing Service

Title: 7 CFR Part 1944-E, Rural Rental and Cooperative Housing Loan Policies, Procedures, and Authorizations.

OMB Control Number: 0575-0047.

Summary of Collection: The Rural Housing Agency (RHS), an agency of the U.S. Department of Agriculture is authorized to make loans to finance rural rental and cooperative housing projects and related facilities under section 515 and 521 of title V of the Housing Act of 1949, as amended. The intent of the program is to provide affordable rental housing for elderly or handicapped persons or families, or other persons and families of low or moderate income in rural areas.

Need and Use of the Information: RHS will collect information using various forms to evaluate the cost, benefits, feasibility and financial performance of the proposed project, as well as the eligibility of the applicant. Failure to collect this information would result in unauthorized Federal assistance being granted.

Description of Respondents: Business or other for-profit; individuals or households; not-for-profit institutions; State, local, or tribal government.

Number of Respondents: 623.

Frequency of Responses: Reporting: On Occasion.

Total Burden Hours: 35,088.

Rural Housing Service

Title: 7 CFR Part 1951-A, Account Servicing Policies.

OMB Control Number: 0575-0075.

Summary of Collection: The Rural Housing Service (RHS) provides supervised credit in the form of Single Family Housing, Multi-Family Housing, and Community Facility loans and grants. Regulation 7 CFR part 1951-A sets forth the policies and procedures, including the collection and use of information, regarding the application of payments on loans made under the programs administered by the agencies and the return of paid-in-full and satisfied promissory notes.

Need and Use of the Information: Borrowers submit information to the local agency office servicing the county in which their operation is located. The agency-servicing official reviews and verifies the information. The information is collected when needed and on an individual case basis.

Description of Respondents: Individuals or households; business or other for-profit.

Number of Respondents: 110.

Frequency of Responses : Reporting: on occasion.

Total Burden Hours: 28.

Animal & Plant Health Inspection Service

Title: Mexican Fruit Fly; Treatments.

OMB Control Number: 0579-0215.

Summary of Collection: The Department of Agriculture is responsible for preventing plant disease or insect pests from entering the United States, preventing the spread of pests and noxious weeds not widely distributed in the United States, and eradicating those imported pests when eradication is feasible. The Mexican fruit fly regulations, contained in 7 CFR 301.64 through 301.64-10 were established to prevent the spread of the Mexican fruit fly to noninfested areas of the United States. The Mexican fruit fly is a destructive pest of citrus and many other types of fruit. The short life cycle of the Mexican fruit fly allows rapid development of serious outbreaks that can cause severe economic losses in commercial citrus-producing areas. The Animal and Plant Health Inspection Service (APHIS) will collect information using form PPQ 519, Compliance Agreement.

Need and Use of the Information: APHIS will collect information to ensure that permit conditions are met, and that proper labeling, marking, and other handling procedures are done before movement of the regulated article. Failure to collect this information would cripple APHIS ability to ensure that citrus and many other types of fruit do not carry Mexican fruit flies.

Description of Respondents: Business or other for-profit; State; local or tribal government.

Number of Respondents: 722.

Frequency of Responses: Reporting: On occasion.

Total Burden Hours: 462.

Food and Nutrition Service

Title: Report of The Emergency Food Assistance Program (TEFAP) Administrative.

OMB Control Number: 0584-0385.

Summary of Collection: The Common Rule entitled Uniform Administrative Requirements for Grants and Cooperative Agreements to State and Local Governments (published by the Department as 7 CFR part 3106) sets financial reporting requirements for State agencies administering non-entitlement programs, such as The Emergency Food Assistance Program (TEFAP). The Food and Nutrition Service (FNS) requires state agencies to use the FNS-667, Report of the Emergency Food Assistance Program. This form is completed quarterly with a close-out report by State agencies administering TEFAP.

Need and Use of the Information: FNS will collect information to ensure that States meet the requirements, that States match all Federal administrative funds that are not passed down to local agencies. Form FNS-667 is used to report how Federal administrative funds are utilized in three separate categories. States may use funds to pay costs incurred by the State agency itself, or to pay costs incurred by local recipient agencies-emergency feeding organizations (EFOs) that distribute USDA commodities to households.

Description of Respondents: State, local, or tribal government; Federal government; farms; not-for-profit institutions; business or other for-profit; individuals or households.

Number of Respondents: 55.

Frequency of Responses: Reporting: Quarterly.

Total Burden Hours: 963.

Sondra A. Blakey,
Departmental Information Collection Clearance Officer.

[FR Doc. 03-12728 Filed 5-20-03; 8:45 am]

BILLING CODE 3410-01-M